DEPARTMENT OF THE INTERIOR

Fish and Wildlife Service

Notice of Availability of an Environmental Assessment/Habitat Conservation Plan and Receipt of Application for an Incidental Take Permit for Construction of Commercial and Residential Development on 110 Acres of the 446-acre Comanche Canyon Ranch in Travis County, Texas

SUMMARY: Comanche Canyon Ranch, Inc. (Applicant) has applied to the U.S. Fish and Wildlife Service (Service) for an incidental take permit pursuant to section 10(a) of the Endangered Species Act (Act). The Applicant has been assigned permit numbers TE-004683-0. The requested permit, which is for a period of 30 years, would authorize the incidental take of the endangered golden-cheeked warbler (Dendroica chrysoparia), Tooth Cave pseudoscorpion (Tartarocreagris texana), Kretschmarr Cave mold Beetle (Texamaurops reddelli), Bee Creek Cave harvestman (Texella reddelli), Bone Cave harvestman (Texella reyesi), Tooth Cave spider (Neoleptoneta myopica), and Tooth Cave ground beetle (Rhadine persephone). The proposed take would occur as a result of the construction of commercial and residential structures with associated streets and utilities on 110 acres of the 446-acre Comanche Canyon Ranch, Travis County, Texas.

The Service has completed the review of the draft Environmental Assessment/Habitat Conservation Plan (EA/HCP) for the incidental take application. A determination of jeopardy to the species or a Finding of No Significant Impact (FONSI) will not be made until at least 30 days from the date of publication of this notice. This notice is provided pursuant to Section 10(c) of the Act and National Environmental Policy Act regulations (40 CFR 1506.6).

DATES: Written comments on the application should be received on or before June 8, 2000.

ADDRESSES: Persons wishing to review the application may obtain a copy by writing to the Regional Director, U.S. Fish and Wildlife Service, P.O. Box 1306, Albuquerque, New Mexico 87103. Persons wishing to review the EA/HCP may obtain a copy by written or telephone request to Christina Longacre, U.S. Fish and Wildlife Service, Ecological Services Office, 10711 Burnet Road, Suite 200, Austin, Texas 78758 (512/490-0057). Documents will be available for public inspection by written request or by appointment only during normal business hours (8:00 to 4:30) at the U.S. Fish and Wildlife Service Office, Austin, Texas. Data or comments concerning the application and EA/HCP should be submitted in writing to the Field Supervisor, U.S. Fish and Wildlife Service Office, Austin, Texas at the above address. Please refer to permit number TE-004683-0 when submitting comments.

FOR FURTHER INFORMATION CONTACT: Christina Longacre at the above U.S.Fish and Wildlife Service Office, Austin, TX.

SUPPLEMENTARY INFORMATION: Section 9 of the Act prohibits the “taking” of endangered species such as the golden-cheeked warbler, Bone Cave harvestman, Tooth Cave spider, Bee Creek Cave harvestman, Tooth Cave pseudoscorpion, Tooth Cave ground beetle and the Kretschmarr Cave mold beetle. However, the Service, under limited circumstances, may issue permits to take endangered wildlife species incidental to, and not the purpose of, otherwise lawful activities. Regulations governing permits for endangered species are at 50 CFR 17.22.

Applicant

Comanche Canyon Inc. plans to construct residential and commercial structures with associated streets and utilities in Travis County, Texas. This action will eliminate approximately 26 acres of habitat and indirectly impact 37 additional acres of golden-cheeked warbler habitat. The Applicant proposes to compensate for this incidental take of golden-cheeked warbler habitat by preserving a minimum of 213 acres on-site.

If any voids are encountered that contain the listed karst invertebrates, the Applicant will minimize and mitigate any impacts determined by the Service.

Alternatives to this action were rejected because not developing the subject property with federally listed species present would not add preserve acreage and management to the area and was not economically feasible.

Domenick R. Ciccone,
Acting Regional Director, Region 2, Albuquerque, New Mexico.

[FR Doc. 00-11518 Filed 5-8-00; 8:45 am]

BILLING CODE 4510-55-U